FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012076-001.

Title: ELJSA/CKYH Vessel Sharing Agreement—Trans-Atlantic Express Service.

Parties: Evergreen Line Joint Service Agreement; COSCO Container Lines Company Limited; Kawasaki Kisen Kaisha, Ltd.; Yang Ming (UK) Ltd.; and Hanjin Shipping Co., Ltd.

Filing Party: Paul M. Keane, Esq.; Cichanowicz, Callan, Keane, Vengrow & Textor LLP; 61 Broadway, Suite 3000; New York, NY 10006-2802.

Synopsis: The amendment updates the addresses of two of the parties and revises the capacity and the number of vessels provided by the parties.

Agreement No.: 012116-003.

Title: NYK/Yang Ming Americas North South Service Vessel Sharing Agreement.

Parties: Nippon Yusen Kaisha and Yang Ming Marine Transport Corp.

Filing Party: Robert Shababb; NYK Line (North America) Inc.; 300 Lighting Way, 5th Floor; Secaucus, NJ 07094.

Synopsis: The amendment deletes Hanjin Shipping Co. and Evergreen Line Joint Service Agreement as parties to the agreement and updates the amount of space chartered under the agreement.

Agreement No.: 012263.

Title: COSCON/Zim Equipment Repositioning Agreement.

Parties: ZIM Integrated Shipping Services, Ltd. and COSCO Container Lines Co. Ltd.

Filing Party: Mark E. Newcomb; ZIM American Integrated Shipping Services, Co., LLC; 5801 Lake Wright Dr.; Norfolk, VA 23508.

Synopsis: The agreement would authorize the parties to share space on each other's vessels for the purpose of repositioning empty equipment in the trade between the U.S. on the one hand, and ports in Europe, the Mediterranean, Canada, and Asia, on the other hand.

Agreement No.: 012264

Title: CMA CGM/Galborg U.S. Gulf/East Coast-South Africa Space Charter Agreement.

Parties: CMA CGM S.A. and Galborg Pte. Ltd.

Filing Party: Draughn Arbona, Esq.; Senior Counsel; CMA CGM (America) LLC; 5701 Lake Wright Drive; Norfolk, VA 23502.

Synopsis: The agreement authorizes CMA to charter space from Galborg in the trade between the U.S. East and Gulf Coasts, on the one hand, and ports in the Republic of South Africa, Namibia, and Mozambique, on the other hand.

Agreement No.: 012265.

Title: CMA CGM/OOCL Houston-Altamira Space Charter Agreement.

Parties: CMA CGM S.A. and Orient Overseas Container Line Limited.

Filing Party: Draughn Arbona, Esq.; Senior Counsel; CMA CGM (America) LLC; 5701 Lake Wright Drive; Norfolk, VA 23502.

Synopsis: The agreement authorizes CMA to charter space to OOCL for the movement of empty containers in the trade between Houston, TX and Altamira, Mexico.

By Order of the Federal Maritime Commission.
Dated: April 18, 2014.
Rachel E. Dickon,
Assistant Secretary.

[FR Doc. 2014-09269 Filed 4-22-14; 8:45 am]

BILLING CODE 6730-01-P